DEPARTMENT OF HOMELAND SECURITY

[Docket No. DHS-2007-0072]

Science and Technology Directorate; Submission for Review; DHS S&T BAA Web Site Registration Form; DHS S&T BAA Registration Form; DHS S&T BAA White Paper and Proposal Submission Form; DHS S&T RFI Response Form

AGENCY: Science and Technology Directorate, DHS.

ACTION: 30-day Notice and request for comment.

SUMMARY: The Department of Homeland Security (DHS) invites the general public to comment on new data collection forms for collecting Request for Information (RFI) responses and unclassified white papers and proposals through the Broad Agency Announcement (BAA) Web site. The forms will standardize the collection of information that is both necessary and sufficient for the DHS S&T Directorate to record and track the receipt of RFI responses, unclassified white papers, and proposals. As explained herein, these forms are intended to eliminate cost and delay associated with the submission and review of documents received via non-electronic means and to improve tracking and records keeping. The Department is committed to improving its BAA processes and invites interested persons to comment on the following forms and instructions (hereinafter “Forms Package”) for the (BAA) program: (1) DHS Science and Technology (S&T) BAA Web Site Registration (DHS FORM 10025), (2) DHS S&T BAA Registration (DHS FORM 10027), (3) DHS S&T BAA White Paper and Proposal Submission (DHS FORM 10026), and (4) DHS S&T RFI Response (DHS FORM 10028). This notice and request for comments is required by the Paperwork Reduction Act of 1995 (Pub. L. 104-13, 44 U.S.C. chapter 35).

DATES: Comments are encouraged and will be accepted until November 30, 2007. This process is conducted in accordance with 5 CFR 1320.10.

ADDRESSES: You may submit comments, identified by docket number [DHS-2007-0072], by one of the following methods:

• Federal eRulemaking Portal: http://www.regulations.gov. Follow the instructions for submitting comments.

• E-mail: ken.rogers@dhs.gov. Include docket number [DHS-2007-0072] in the subject line of the message.

• Mail: Science and Technology Directorate, ATTN: OCIO/Kenneth D. Rogers, 245 Murray Drive, Bldg 410, Washington, DC 20528.

FOR FURTHER INFORMATION CONTACT: Kenneth D. Rogers (202) 254-6185 (this is not a toll free number).

SUPPLEMENTARY INFORMATION: This request for comment was previously published in the Federal Register on August 17, 2007, for a 60-day public comment period ending October 16, 2007. No comments were received by DHS during the 60-day comment period. The purpose of this notice is to allow an additional 30 days for public comments. This notice and request for comments is required by the Paperwork Reduction Act of 1995 (Pub. L. 104-13, 44 U.S.C. chapter 35).

DHS invites the general public to comment on the new information collection forms, as described below.

Interested parties can obtain copies of the Forms Package by calling or writing the point of contact listed above.

The DHS S&T Directorate issues RFIs in accordance with Federal Acquisition Regulation (FAR) 15.201(e) and accepts responses to those RFIs from the public. DHS S&T also issues BAAs in accordance with FAR 6.102(d)(2)(i) and FAR 35.016 and accepts white papers and proposals from the public in response to those BAAs. DHS S&T evaluates white papers and proposals received from the public in response to a DHS S&T BAA using the evaluation criteria specified in the BAA through a peer or scientific review process in accordance with FAR 35.016(d). White paper evaluation determines those research ideas that merit submission of a full proposal and proposal evaluation determines those proposals that merit selection for contract award.

Unclassified white papers and proposals are typically collected via the DHS S&T BAA secure Web site, while classified white papers and proposals must be submitted via proper classified courier or classified mailing procedures as described in the National Security Program Operating Manual (NISPOM).

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the data collection on those who respond, including the use of appropriate automated, electronic, mechanical, or other technological collection techniques or other forms of information technology, e.g., permitting electronic submissions of responses.

Overview of this Information Collection:

(1) Type of Information Collection: New information collection.

(2) Title of the Form/Collection: DHS S&T BAA Web Site Registration Form; DHS S&T BAA Registration Form; DHS S&T BAA White Paper and Proposal Submission Form; DHS S&T RFI Response Form.

(3) Agency Form Number, if any, and the applicable component of the Department of Homeland Security sponsoring the collection: DHS Science and Technology (S&T) BAA Web Site Registration Form (DHS FORM 10025), DHS S&T BAA Registration Form (DHS FORM 10027), DHS S&T BAA White Paper and Proposal Submission Form (DHS FORM 10026), and DHS S&T RFI Response Form (DHS FORM 10028).

(4) Affected public who will be asked or required to respond, as well as a brief abstract: Individuals or households, Business or other for-profit, Not-for-profit institutions, Federal government, and State, local, or tribal government; the data gathered through the BAA Forms Package will be used to collect RFI responses and unclassified white papers and proposals through the BAA Web site.

(5) An estimate of the total number of respondents and the amount of time estimated for an average respondent to respond: a. An estimate of the total number of respondents: 4865 Respondents. b. Amount of time estimated for an average respondent to respond: 1.25 burden hours.

(6) An estimate of the total public burden (in hours) associated with the collection: 1,548.75 burden hours.

Dated: October 18, 2007.
Kenneth D. Rogers,
Chief Information Officer, Science and Technology Directorate.

[FR Doc. E7-21361 Filed 10-30-07; 8:45 am]

BILLING CODE 4410-10-P